ENVIRONMENTAL PROTECTION AGENCY

[EPA-HQ-OPPT-2015-0836; FRL-9919-80]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from October 6, 2014 to October 30, 2014.

DATES: Comments identified by the specific PMN number or TME number, must be received on or before January 9, 2015.

ADDRESSES: Submit your comments, identified by docket identification (ID) number EPA-HQ-OPPT-2014-0836, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; email address: Mudd.Bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from October 6, 2014 to October 30, 2014, and consists of the PMNs pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—52 PMNs Received From 10/6/14 to 10/30/14
Case No. | Received date | Projected notice end date | Manufacturer/ importer | Use | Chemical
P-15-0011 | 10/6/2014 | 1/4/2015 | CBI | (G) Molding resin | (G) Aromatic and aliphatic polyamide.
P-15-0012 | 10/6/2014 | 1/4/2015 | CBI | (G) Colorant for industrial, architectural, plastics, inks and automotive applications | (G) Sioc.
P-15-0013 | 10/7/2014 | 1/5/2015 | CBI | (G) Reactive hot melt adhesive for roll coating or spraying application to make panels for construction | (G) Silane terminated urethane polymer.
P-15-0014 | 10/7/2014 | 1/5/2015 | CBI | (G) Polymer used in electronics, adhesives, and coatings manufacture | (G) Copolymer of a substituted aromatic olefin and substituted acrylates.
P-15-0015 | 10/8/2014 | 1/6/2015 | Allnex USA Inc. | (S) Industrial coating resin FOR improving mechanical properties in automotive paints | (G) Substituted heteropolycycle-, polymer with a-hydro-w-hydroxypoly(oxy-1,4-butanediyl), compound with substituted aminoalkane.
P-15-0017 | 10/8/2014 | 1/6/2015 | CBI | (G) Agriculture Fertilizer | (G) Iron alkylenediaminehydroxy sulfophonic acid.
P-15-0018 | 10/9/2014 | 1/7/2015 | Flint Group Pigment | (G) Dispersant for ink and coating systems | (G) Quaternary amine, salt with 4-[[2-[2-[3,3′-dichloro-4′-[2-[2-substituted-1-[(phenylamino)carbonyl]propyl] diazenyl][1,1′-biphenyl]-4-yl]diazenyl]-1,3-dioxobutyl]amino]aromatic sulfonate (1:1).
P-15-0019 | 10/9/2014 | 1/7/2015 | CBI | (G) Additive for cleaner products | (S) 2-Propenoic acid, 2-methyl-, polymer with 2-methyl-2-[(1-oxo-2-propenyl)amino]-1-propanesulfonic acid monosodium salt, sodium salt (9Cl).
P-15-0021 | 10/9/2014 | 1/7/2015 | CBI | (G) PSA Coating | (G) Polyoxyalkylene polymer with silane groups.
P-15-0024 | 10/10/2014 | 1/8/2015 | Akzo Nobel Surface Chemistry LLC | (S) Chemical intermediate | (G) Amines, bis (alkylamine).
P-15-0025 | 10/10/2014 | 1/8/2015 | Akzo Nobel Surface Chemistry LLC | (G) Chemical intermediate-site limited | (G) Nitrile amino.
P-15-0026 | 10/14/2014 | 1/12/2015 | Akzo Nobel Surface Chemistry LLC | (G) For use in a friction modifier | (G) 1,3-propanediamine, N1, N1-alkyl.
P-15-0027 | 10/14/2014 | 1/12/2015 | Akzo Nobel Surface Chemistry LLC | (G) Chemical intermediate-site limited | (G) Propanenitrile, -3-(diisoamine)-.
P-15-0028 | 10/14/2014 | 1/12/2015 | CBI | (G) Colorant for industrial, architectural, plastics, inks and automotive applications | (S) Carbon silicon oxide.
P-15-0029 | 10/14/2014 | 1/12/2015 | Maroon Inc. | (S) Antioxidant for plastics | (S) 2,4,8,10-Tetraoxa-3,9-diphosphaspiro[5.5]undecane,3,9-bis[2-(1-methyl-1-phenylethyl)-4-(1,1,3,3-tetramethylbutyl)phenoxy]-.
P-15-0030 | 10/14/2014 | 1/12/2015 | SEPPIC | (G) Non-ionic surfactant hydrotrope agent | (S) D-glucopyranose, oligomeric, heptyl glycosides.
P-15-0031 | 10/15/2014 | 1/13/2015 | CBI | (G) Energy exploration additive | (G) Borate(1-), hydroxybenzoate(2-)-kappa o]-, (T-4)-, hydrogen, (9z)-9-octadecen-1-amine (1:1:1).
P-15-0033 | 10/15/2014 | 1/13/2015 | CBI | (S) Crosslinking agent for thermoset resins | (G) Alkyl and aryl-substituted polysiloxane.
P-15-0032 | 10/15/2014 | 1/13/2015 | CBI | (G) Open, non-dispersive | (G) Propanoic acid, 2-hydroxy-, (2s)-, compounds with hydrolyzed(2-oxiranylmethyl)-(2-oxiranylmethoxy)poly(oxy-1,4-butanediyl)-polypropylene glycol diamine polymer-2-[[(trisubstituted silyl)propoxy]methyl]oxirane reaction products.
P-15-0034 | 10/16/2014 | 1/14/2015 | CBI | (G) Dispersive use in cooling water applications | (G) Polyacrylic.
P-15-0035 | 10/16/2014 | 1/14/2015 | MANE USA | (S) Fragrance used in a fine fragrances; fragrance used in a personal consumer products; fragrance used in household products | (S) Hexanal, 6-cyclopentylidene-.
P-15-0036 | 10/16/2014 | 1/14/2015 | CBI | (G) Chemical intermediate | (S) 2-Pyridinecarboxylic acid, 4,5,6-trichloro-.
P-15-0037 | 10/17/2014 | 1/15/2015 | CBI | (G) Additive in toner formulations | (G) 2-alkanoic acid, 2-alkyl-, 3-(trimethoxysilyl)propyl ester, homopolymer, hydrolysis products with silica and 1,1,1-trimethyl-N-(trimethylsilyl)silanamine.
P-15-0038 | 10/17/2014 | 1/15/2015 | CBI | (G) PMN additive to improve texture of pigment | (G) Aluminum substituted aminodicarboxylate.
P-15-0039 | 10/17/2014 | 1/15/2015 | Industrial Speciality Chemicals | (G) This material will be used in conjunction with current chemistries for wastewater treatment | (G) Cationic starch.
P-15-0043 | 10/21/2014 | 1/19/2015 | CBI | (G) Polyurethane prepolymer for use in cast polyurethane elastomer parts: Open, Non-dispersive Use | (G) Isocyanate-terminated polycaprolactone-based urethane polymer.
P-15-0045 | 10/21/2014 | 1/19/2015 | CBI | (G) Polyurethane prepolymer for use in cast polyurethane elastomer parts: Open, Non-dispersive Use | (G) Isocyanate terminated polyether urethane prepolymer.
P-15-0044 | 10/21/2014 | 1/19/2015 | CBI | (G) Polyurethane prepolymer for use in cast polyurethane elastomer parts: Open, Non-dispersive Use | (G) Isocyanate terminated polyether urethane prepolymer.
P-15-0042 | 10/21/2014 | 1/19/2015 | CBI | (G) Polyurethane prepolymer for use in cast polyurethane elastomer parts: Open, Non-dispersive Use | (G) Isocyanate-terminated polycaprolactone-based urethane polymer.
P-15-0046 | 10/21/2014 | 1/19/2015 | CBI | (G) Polyurethane prepolymer for use in cast polyurethane elastomer parts: Open, Non-dispersive Use | (G) Isocyanate terminated polyether urethane prepolymer.
P-15-0041 | 10/21/2014 | 1/19/2015 | CBI | (G) Polyurethane prepolymer for use in cast polyurethane elastomer parts: Open, Non-dispersive Use | (G) Isocyanate-terminated polycaprolactone-based urethane polymer.
P-15-0049 | 10/21/2014 | 1/19/2015 | CBI | (G) Polyurethane prepolymer for use in cast polyurethane elastomer parts: Open, Non-dispersive Use | (G) Isocyanate-terminated polypropylene glycol-based urethane polymer.
P-15-0048 | 10/21/2014 | 1/19/2015 | CBI | (G) Polyurethane prepolymer for use in cast polyurethane elastomer parts: Open, Non-dispersive Use | (G) Isocyanate-terminated polyester-based urethane polymer.
P-15-0051 | 10/21/2014 | 1/19/2015 | CBI | (G) Polyurethane prepolymer for use in cast polyurethane elastomer parts: Open, Non-dispersive Use | (G) Isocyanate-terminated polybutadiene-based urethane polymer.
P-15-0047 | 10/21/2014 | 1/19/2015 | CBI | (G) Polyurethane prepolymer for use in cast polyurethane elastomer parts: Open, Non-dispersive use | (G) Isocyanate-terminated polyester-based urethane polymer.
P-15-0050 | 10/21/2014 | 1/19/2015 | CBI | (G) Polyurethane prepolymer for use in cast polyurethane elastomer parts: Open, Non-dispersive Use | (G) Isocyanate-terminated polypropylene glycol-based urethane polymer.
P-15-0054 | 10/21/2014 | 1/19/2015 | Zeon Chemicals LP | (G) chemical intermediate—destructive use | (G) CNT Powder.
P-15-0055 | 10/21/2014 | 1/19/2015 | CBI | (G) Urethane component | (G) Aromatic isocyanate, polxmer with alkyloxirane polymer with oxirane ether with polyfunctional alcohol, and alkyloxirane polymer with oxirane ether with triol (3:1).
P-15-0056 | 10/22/2014 | 1/20/2015 | CBI | (S) Fragrance ingredient for use in fragrances for soaps, detergents, cleaners and other household products | (S) Furan, 5-(hexyloxy)tetrahydro-2,2-dimethyl-.
P-15-0057 | 10/22/2014 | 1/20/2015 | 3M Company | (G) Adhesive | (G) Hetero substituted alkyl acrylate polymer.
P-15-0059 | 10/22/2014 | 1/20/2015 | Otis Institute, Inc | (S) Component in an optical down converter | (G) Cadmium selenide zinc sulfide dodecanoic acid and amine in amino functional silicone fluid.
P-15-0060 | 10/22/2014 | 1/20/2015 | Otis Institute, Inc | (S) Precourser component to make an optical down converter in the next step of manufacturing | (G) Cadmium selenide zinc sulfide dodecanoic acid and amine.
P-15-0061 | 10/22/2014 | 1/20/2015 | CBI | (G) Leather chemical | (G) Imidazoliurn,polymer with cyclic anhydride and alkenoic acid, alkali salt.
P-15-0058 | 10/22/2014 | 1/20/2015 | Shin-Etsu MicroSi | (G) Gravure ink | (G) Vinyl Chloride Emulsion (Acrylic group emulsion type).
P-15-0063 | 10/23/2014 | 1/21/2015 | Shin Etsu Silicones of America | (G) After it is diluted with solvent, it is spread on the | (G) Perfluoropolyether modified silane.
P-15-0064 | 10/23/2014 | 1/21/2015 | Colonial Chemical, Inc | (G) Wetting agent | (S) 2-Propanol, 1,1′,1″, 1″ ′-(1,2-ethanediyldinitrilo)tetrakis-, polymer with 2-(chloromethyl)oxirane, reaction products with 2-(dimethylamino)ethanol, chlorides.
P-15-0066 | 10/24/2014 | 1/22/2015 | CBI | (G) Photoacid generator and dispersant | (G) PMN—Sulfonium, tris[4-[(alkylketophenyl)thio]phenyl]-(halophenyl)borate (1-) (1:1) MSDS—triarylsulfonium borate.
P-15-0067 | 10/27/2014 | 1/25/2015 | CBI | (G) Destructive use | (G) Protected chlorohexanol.
P-15-0069 | 10/28/2014 | 1/26/2015 | American Peptide Company | (G) Pigment dispersant | (G) 2-propeonic acid, 2-methyl-, polymer with butyl 2-methyl-2-propenoate and carbomonocyclicmethyl 2-methyl-2-propenoate.
P-15-0072 | 10/28/2014 | 1/26/2015 | CBI | (G) Filter media for heavy metal removal from water | (G) Alkali or alkaline earth containing hydros titanosilicate gel.
P-15-0073 | 10/29/2014 | 1/27/2015 | Cardolite Corporation | (S) Curing agent for epoxy coatings | (G) Cashew Nutshell Liquid, polymer with formaldehyde and ethanolamines.
P-15-0074 | 10/30/2014 | 1/28/2015 | CBI | (G) Agricultural adjuvant | (G) Trisiloxane alkoxylate.

In Table II of this unit, EPA provides the following information (to the extent that such information is not claimed as CBI) on the NOCs received by EPA during this period: The EPA case number assigned to the NOC, the date the NOC was received by EPA, the projected end date for EPA's review of the NOC, and chemical identity.

Table II—26 NOCs Received From 10/6/14 to 10/30/14
Case No. | Received date | Commencement notice end date | Chemical
P-14-0268 | 10/6/2014 | 9/15/2014 | (S) Carbamic acid, N-(3-isoocyanatomethylphenyl)-, 2-[2-(2-butoxyethoxy)ethoxy]ethyl ester.
P-14-0441 | 10/6/2014 | 9/24/2014 | (G) Heterocylic dione polymer with alkenylbenzene and alkoxpoly(oxy-alkanediyl)alkylacrylate.
P-14-0595 | 10/7/2014 | 9/16/2014 | (G) Substituted isocyanate polymer.
P-14-0106 | 10/8/2014 | 9/19/2014 | (G) Blown polymerized fatty acid.
P-13-0357 | 10/8/2014 | 9/24/2014 | (G) Alkene carbonate derivative.
P-14-0644 | 10/8/2014 | 9/28/2014 | (G)Aalkylacrylonitrile-acrylonitrile copolymer.
P-14-0537 | 10/8/2014 | 10/6/2014 | (G) Polymeric Aspartate.
P-14-0372 | 10/9/2014 | 9/4/2014 | (G) Depolymerized polyurethane.
P-14-0564 | 10/9/2014 | 9/29/2014 | (S) 2-Propenal, 3-[4-(1-methylethyl)phenyl]-.
P-14-0646 | 10/9/2014 | 10/6/2014 | (S) Cuprate(4-), [[3,3′,3″,3″ ′-[(29H,31H-phthalocyanine-1,8,15,22-tetrayl-.kappa.n29,.kappa.n30,.kappa.n31,.kappa.n32) tetrakis(sulfonyl)]tetrakis[1-propanesulfonato]](6-)]-, sodium (1:4), (sp-4-1)-.
P-13-0460 | 10/10/2014 | 9/28/2014 | (G) Hexamethylene diisocyanate homopolymer, polyethylene glycol mono-me ether blocked, reaction products with alcohol.
P-13-0942 | 10/10/2014 | 9/28/2014 | (G) Copolymer of alkyl methacrylate.
P-14-0647 | 10/15/2014 | 9/26/2014 | (G) Polymer of substituted aromatic olefins.
P-13-0120 | 10/16/2014 | 9/18/2014 | (G) Substituted dialkyltin.
P-14-0649 | 10/17/2014 | 10/14/2014 | (G) Tetralkylammonium alkonate.
J-14-0020 | 10/21/2014 | 10/15/2014 | (G) Modified microalgae.
P-11-0487 | 10/23/2014 | 9/27/2014 | (G) Polyfluorinated alkyl polyamide.
P-14-0432 | 10/23/2014 | 10/13/2014 | (G) Isocyanate-terminated urethane prepolymer.
P-14-0426 | 10/23/2014 | 10/18/2014 | (G) Polyester polyol.
P-13-0375 | 10/23/2014 | 10/21/2014 | (S) 6-DecenaL, (6E)-, 6-Decenal, (6Z), 7-Decenal, (7E), 7-Decenal, (7Z), 8-Decenal, (8E)-, 8-Decenal, (8Z)-.
P-09-0065 | 10/24/2014 | 10/21/2014 | (G) Benzoic acid phenyl ester.
P-14-0717 | 10/26/2014 | 10/25/2014 | (G) Substituted alkanoic acid ester, polymer with alkanoic acid esters, substituted alkanenitrile-initiated.
P-14-0739 | 10/28/2014 | 10/25/2014 | (S) D-glucopyranose, oligomeric, decyl octyl glycosides, polymers with 1,3-dichloro-2-propanol.
P-14-0560 | 10/28/2014 | 10/28/2014 | (S) D-glucopyranose, oligomeric, C10-16-alkyl glycosides, polymers with epichlorohydrin.
P-14-0558 | 10/29/2014 | 10/7/2014 | (S) 2-Propenoic acid, 2-[[(octadecylamino)carbonyl]oxy]ethyl ester.
P-01-0236 | 10/31/2014 | 6/4/2001 | (G) Acrylic polymer salt.

If you are interested in information that is not included in these tables, you may contact EPA as described in Unit II. to access additional non-CBI information that may be available.

Authority: 15 U.S.C. 2601 et seq.

Dated: December 4, 2014.
Chandler Sirmons,
Acting Director, Information Management Division, Office of Pollution Prevention and Toxics.

[FR Doc. 2014-28944 Filed 12-9-14; 8:45 am]

BILLING CODE 6560-50-P